DEPARTMENT OF THE INTERIOR

Bureau of Land Management

[OR-090-5900, HAG04-0090]

Notice of Availability of the Final Environmental Impact Statement for the Upper Siuslaw River Late-Successional Reserve Restoration Plan

AGENCY: Bureau of Land Management, Interior.

ACTION: Notice of availability.

SUMMARY: Pursuant to Section 102 (2)(C) of the National Environmental Policy Act (NEPA) of 1969, a Final Environmental Impact Statement has been prepared by the Bureau of Land Management (BLM), Eugene District, with the U.S. Fish and Wildlife Service as a cooperating agency, for the Upper Siuslaw Late-Successional Reserve (LSR) Restoration Plan. The FEIS was prepared to analyze the impacts of a long-term management approach and specific actions needed to achieve the LSR goals and Aquatic Conservation Strategy objectives set out in the Northwest Forest Plan. The Upper Siuslaw LSR Restoration Plan will address management of approximately 25,000 acres of BLM-managed lands within LSR 267 in the upper portion of the Siuslaw River fifth-field watershed. An abbreviated FEIS has been prepared, containing copies of comments received on the Draft Environmental Impact Statement (DEIS), responses to those comments, and an errata section with specific modifications and corrections to the DEIS. Copies of the FEIS will be mailed to individuals, agencies, or companies who previously requested copies. A limited number of copies of the document will be available at the Eugene District Office. The FEIS and Draft EIS are also available online from the Eugene District Internet Web site at http://www.edo.or.blm.gov.

DATES: Written comments on the FEIS must be postmarked or otherwise delivered by 4:15 p.m., 30 days following the date the Environmental Protection Agency (EPA) publishes the NOA and filing of the FEIS in the Federal Register.

Comments, including names and street addresses of respondents, will be available for public review at the Eugene District office during regular hours (7:45 a.m. to 4:15 p.m.), Monday through Friday, except holidays, and may be published as part of the environmental analysis or other related documents. Individual respondents may request confidentiality. If you wish to withhold your name or address from public review or from disclosure under the Freedom of Information Act, you must state this prominently at the beginning of your written comment. Such requests will be honored to the extent allowed by law. Anonymous comments will not be accepted. All submissions from organizations or businesses, and from individuals identifying themselves as representatives or officials of organizations or businesses, will be made available for public inspection in their entirety.

ADDRESSES: Written comments on the document should be addressed to: Rick Colvin, P.O. Box 10226, Eugene, OR, 97440; or e-mail to: or090mb@or.blm.gov Attn: Rick Colvin. Written comments may also be hand-delivered to the Eugene District Office, 2890 Chad Drive, Eugene, OR.

FOR FURTHER INFORMATION CONTACT: Rick Colvin at (541) 683-6600 or 1-888-442-3061.

SUPPLEMENTARY INFORMATION: The FEIS addresses alternatives for forest and aquatic restoration within a Late-Successional Reserve in the Coast Range Mountains west of Eugene, Oregon. The purpose of the action is to protect and enhance late-successional and old-growth forest ecosystems; foster the development of late-successional forest structure and composition in plantations and young forests; and reconnect streams and stream channels to their riparian areas and upslope areas.

The FEIS analyzes in detail the following six alternatives:

Alternative A—no active management (No Action);

Alternative B—restoration limited to forest plantations and road management with no commercial timber harvest;

Alternative C—continuation of the current management approach;

Alternative D—restoration focused on recovery of threatened and endangered species;

Alternative E—restoration that would reduce forest stand densities as quickly as possible;

Alternative F—restoration based on multi-entry and multi-trajectory thinning.

All alternatives analyzed in the FEIS are in conformance with the 1995 Eugene District Resource Management Plan (RMP) and do not require any amendment or revision of the RMP. The Preferred Alternative is Alternative D.

The FEIS analyzes the following issues:

—How would thinning affect development of late-successional forest habitat characteristics?

—What are the effects of restoration activities on the northern spotted owl, marbled murrelet, and coho salmon habitat?

—What level of risk to existing late-successional forest would result from restoration activities?

—How would actions meet the objectives of the Aquatic Conservation Strategy?

—How much new road construction would be needed to implement restoration actions?

—How would road decommissioning and road-management actions alter public access to BLM lands?

—How would restoration actions affect the presence and spread of noxious weeds?

—What would be the economic effects of restoration activities?

—What would the restoration program cost?

The DEIS was made available for a 60-day public comment period, from August 15, 2003 to October 15, 2003. BLM received 11 comment letters during the comment period and one comment letter after the comment period. BLM received no comments that suggested development of additional alternatives or pointed out flaws or deficiencies in analysis. As a result, BLM made only minor changes in the DEIS in response to comments, consisting of technical, editorial, or non-substantive factual corrections. Therefore, only an abbreviated FEIS has been prepared, containing copies of comments received on the DEIS, responses to those comments, and an errata section with specific modifications and corrections to the DEIS in response to comments. The DEIS will not be rewritten or reprinted. Only the comments, responses, and an errata sheet will be circulated for review, consistent with 40 CFR 1503.4 and the BLM NEPA Handbook H-1790-1, p. V-21.

Steven Calish,
Field Manager.

[FR Doc. 04-7564 Filed 4-8-04; 8:45 am]

BILLING CODE 4310-33-P